DEPARTMENT OF AGRICULTURE

Rural Utilities Service

North Carolina Electric Membership Corporation; Notice of Intent

AGENCY: Rural Utilities Service, USDA.

ACTION: Notice of intent to hold public meetings and prepare an environmental assessment.

SUMMARY: Notice is hereby given that the Rural Utilities Service (RUS), an agency delivering the U.S. Department of Agriculture's Rural Development Utilities Programs, pursuant to the National Environmental Policy Act of 1969 (42 U.S.C. 4321 et seq.), the Council on Environmental Quality (CEQ) Regulations for Implementing NEPA (40 CFR parts 1500-1508), and RUS Environmental Policies and Procedures (7 CFR part 1794), proposes to prepare an Environmental Assessment (EA) related to possible financing assistance to North Carolina Electric Membership Corporation (NCEMC) to construct two, 300 megawatt simple cycle combustion turbines at two locations. Sites under consideration are located in Anson County, Person County, Richmond County, and Wake County, North Carolina.

Meeting Information: RUS will conduct public meetings in an open house format on August 23, 2004, from 6 p.m. until 9 p.m. at Cole Auditorium, 1042 West Hamlet Avenue, Hamlet, NC, on August 24, 2004, from 6 p.m. until 9 p.m. at Lilesville Elementary School, 121 Camden Street, Lilesville, NC, on September 7, 2004, from 6 p.m. until 9 p.m., at Person County Office Building Auditorium, 304 South Morgan Street, Roxboro, NC, and on September 9, 2004, from 6 p.m. until 9 p.m. at the Holly Springs Town Hall, 128 South Main Street, Holly Springs, NC. All interested parties are invited to attend the meetings.

FOR FURTHER INFORMATION CONTACT: Bob Quigel, Engineering and Environmental Staff, Rural Utilities Service, at (202) 720-0468, or bob.quigel@usda.gov. You can also contact Jane Pritchard of North Carolina Electric Membership Corporation at 1-800-662-8835, extension 3104, or jane.pritchard@ncemcs.com.

SUPPLEMENTARY INFORMATION: North Carolina Electric Membership Corporation proposes to construct a natural gas fired electric generation plant at two of four potential sites. One site is in Anson County, North Carolina, located southwest of Blewett Falls Lake. Approximately one-half mile of natural gas pipeline will be constructed from the existing Sandhills pipeline to the plant site. No new electric transmission lines will be constructed at this site. The second site is located in Richmond County, North Carolina, just south of U.S. 74 and adjacent to the Progress Energy facility. Approximately one-half mile of natural gas pipeline and one-half mile of new electric transmission line would be associated with a plant at this site. The third site is located in Person County, North Carolina, approximately two miles southwest of Roxboro. Approximately 1,000 feet of natural gas pipeline and no new electric transmission line would be associated with a plant at this site. The fourth site is located in southwestern Wake County, North Carolina, on a parcel bounded by U.S. Highway One and Friendship Road. Approximately three miles of natural gas pipeline and 0.8 miles of new electric transmission line would be associated with a plant at this site.

The proposed projects will be composed of five or six Pratt & Whitney FT-8 Swift-Pac™ generation units operating in simple-cycle mode. The plants will use natural gas with low sulfur distillate fuel oil as backup fuel. It is the goal of North Carolina Electric Membership Corporation to have the facilities operational by mid to late 2007.

An alternative evaluation and site selection study for the project was prepared by North Carolina Electric Membership Corporation. The alternative evaluation and site selection study are available for public review at RUS in Room 2244 South Building, 1400 Independence Avenue, SW., Washington, DC, and at the headquarters of NCEMC located at 3400 Sumner Boulevard, Raleigh, North Carolina. This documents will also be available at the Hampton B. Allen Library, 120 South Greene Street, Wadesboro, North Carolina, (704) 694-5177, Pee Dee Electric Membership Corporation, Highway 52 South, Wadesboro, North Carolina, (704) 694-2114, at the Person County Library, 319 South Main Street, Roxboro, North Carolina, (336) 597-7881, at the Office of the County Manager, 304 South Morgan Street, Room 212, Roxboro, North Carolina, (336) 597-1720, at the Leath Memorial Library, 412 East Franklin Street, Rockingham, North Carolina, (910) 895-6337, Pee Dee Electric Membership Corporation, Rockingham District Office, U.S. 22 South & Midway Road, Rockingham, North Carolina, (910) 997-4441, at the Fuquay-Varina Library, 133 South Fuquay Avenue, Fuquay-Varina, North Carolina, (919) 557-2788, at the Eva H. Perry Library, 2100 Shepherd's Vineyard Drive, Apex, North Carolina, (919) 387-2100, and at the Office of the Town Clerk, Holly Springs Town Hall, 128 South Main Street, Holly Springs, North Carolina, (919) 557-3900.

Government agencies, private organizations, and the public are invited to participate in the planning and analysis of the proposed project. The purpose of the meetings is to describe the projects and alternatives under consideration, discuss the scope of environmental issues to be considered, answer questions, and accept oral and written comments. Written comments will be accepted for at least 30 days after the public scoping meeting.

From information provided in the alternative evaluation and site selection study, input that may be provided by government agencies, private organizations, and the public, NCEMC will prepare an environmental analysis to be submitted to RUS for review. RUS will use the environmental analysis to determine the significance of the impacts of the projects and may adopt it as its environmental assessment of the projects. RUS' environmental assessment of the projects would be available for review and comment for 30 days.

Should RUS determine, based on the environmental assessment of the project, that the impacts of the construction and operation of the plant would not have a significant environmental impact, it will prepare a finding of no significant impact. Public notification of a finding of no significant impact would be published in the Federal Register and in newspapers with a circulation in the project area.

Any final action by RUS related to the proposed project will be subject to, and contingent upon, compliance with environmental review requirements as prescribed by CEQ and RUS environmental policies and procedures.

Dated: July 30, 2004.
Mark Plank,
Acting Director, Engineering and Environmental Staff.

[FR Doc. 04-17847 Filed 8-4-04; 8:45 am]

BILLING CODE 3410-15-P